DEPARTMENT OF TRANSPORTATION

Federal Aviation Administration

14 CFR Part 71

[Docket No. FAA-2023-2493; Airspace Docket No. 23-AGL-25]

RIN 2120-AA66

Amendment of Jet Route J-89 and VOR Federal Airway V-161, and Establishment of Canadian RNAV Routes Q-834 and T-765; Northcentral United States

AGENCY: Federal Aviation Administration (FAA), DOT.

ACTION: Notice of proposed rulemaking (NPRM).

SUMMARY: This action proposes to amend Jet Route J-89 and Very High Frequency Omnidirectional Range (VOR) Federal Airway V-161 and to establish Canadian Area Navigation (RNAV) routes Q-834 and T-765 in United States (U.S.) airspace. The FAA is proposing this action due to the planned decommissioning of the Winnipeg, Manitoba (MB), Canada, VOR/Tactical Air Navigation (VORTAC) navigational aid (NAVAID). This action is in support of NAV CANADA's NAVAID Modernization Program.

DATES: Comments must be received on or before February 26, 2024.

ADDRESSES: Send comments identified by FAA Docket No. FAA-2023-2493 and Airspace Docket No. 23-AGL-25 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System (NAS) as necessary to preserve the safe and efficient flow of air traffic.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX 76177.

Incorporation by Reference

Jet Routes are published in paragraph 2004, Canadian Area Navigation Routes (Q-routes) are published in paragraph 2007, VOR Federal airways are published in paragraph 6010(a), and Canadian Area Navigation Routes (T-routes) are published in paragraph 6013 of FAA Order JO 7400.11, Airspace Designations and Reporting Points, which is incorporated by reference in 14 CFR 71.1 on an annual basis. This document proposes to amend the current version of that order, FAA Order JO 7400.11H, dated August 11, 2023, and effective September 15, 2023. These updates would be published in the next update to FAA Order JO 7400.11. That order is publicly available as listed in the ADDRESSES section of this document.

FAA Order JO 7400.11H lists Class A, B, C, D, and E airspace areas, air traffic service routes, and reporting points.

Background

NAV CANADA, which operates Canada's civil air navigation service, is implementing changes to Canada's instrument flight rules (IFR) navigation infrastructure as part of their NAVAID Modernization Program. This modernization program is designed to enhance the efficiency of Canada's flying operations by taking advantage of performance-based navigation and RNAV avionics capabilities. The changes being implemented by NAV CANADA affect Jet Route J-89 and portions of VOR Federal Airway V-161 that extend across the U.S./Canada border through U.S. airspace.

NAV CANADA is planning to decommission the Winnipeg, MB, Canada, VORTAC in September 2024 as part of their NAVAID Modernization Program. As a result, amendments to J-89 and V-161 in U.S. airspace are necessary due to the loss of navigational guidance provided by the Winnipeg VORTAC and to match the Air Traffic Service (ATS) route changes planned by NAV CANADA within Canadian airspace. Additionally, NAV CANADA plans to establish new Canadian RNAV routes, Q-834 in the high-altitude enroute structure and T-765 in the low-altitude enroute structure, as route segment replacements for the affected ATS routes within Canadian and U.S. airspace.

To mitigate the loss of the J-89 and V-161 route segments in U.S. airspace and support NAV CANADA's planned RNAV route replacements for these affected routes, the FAA is proposing to establish portions of Canadian RNAV routes Q-834 and T-765 within U.S. airspace. The new Canadian RNAV route segments in U.S. airspace would provide airway continuity with NAV CANADA's RNAV routes being established within Canadian airspace and provide cross-border airway connectivity between the U.S. and Canada. Existing NAVAIDs that provide conventional enroute structure in the affected area are limited and alternate, parallel, or adjacent Jet Routes or VOR Federal Airways to use as mitigations are not available. To compensate for the loss of the conventional enroute structure, IFR pilots with RNAV-equipped aircraft could navigate using the Canadian RNAV routes proposed in this action or fly point-to-point using the Fixes and waypoints (WP) that would remain in place. Additionally, IFR pilots could request air traffic control (ATC) radar vectors to fly through or around the affected area. Visual flight rules pilots who elect to navigate via airways could also take advantage of the ATC services listed previously.

The Proposal

The FAA is proposing to amend 14 CFR part 71 by amending Jet Route J-89 and VOR Federal Airway V-161 and by establishing Canadian RNAV Routes Q-834 and T-765 in U.S. airspace. This action is necessary due to the planned decommissioning of the Winnipeg, MB, Canada, VORTAC by NAV CANADA as part of their NAVAID Modernization Program. The proposed ATS route actions are described below.

J-89: J-89 currently extends between the Louisville, KY, VORTAC and the Winnipeg, MB, Canada, VORTAC, excluding the airspace within Canada. The FAA proposes to remove the route segment between the Duluth, MN, VORTAC and the Winnipeg VORTAC. As amended, the route would be changed to extend between the Louisville VORTAC and the Duluth VORTAC.

Q-834: Q-834 is a new Canadian RNAV route proposed to be established within U.S. airspace extending between the Duluth, MN, VORTAC and the ALBNG, MN, WP that would replace the “CFHBZ” Computer Navigation Fix (CNF) on the U.S./Canada border. The new RNAV route would mitigate the proposed J-89 route segment removal and provide route continuity and cross-border connectivity with the Q-834 route being established by NAV CANADA within Canadian airspace between the ALBNG WP and the Winnipeg, MB, area.

V-161: V-161 currently extends between the Three Rivers, TX, VORTAC and the Tulsa, OK, VORTAC; between the Butler, MO, VORTAC and the Gopher, MN, VORTAC; and between the International Falls, MN, VOR/Distance Measuring Equipment (VOR/DME) and the Winnipeg, MB, Canada, VORTAC, excluding the airspace within Canada. The FAA proposes to remove the airway segment between the International Falls VOR/DME and the Winnipeg VORTAC. As amended, the airway would be changed to extend between the Three Rivers VORTAC and the Tulsa VORTAC, and between the Butler VORTAC and the Gopher VORTAC.

T-765: T-765 is a new Canadian RNAV route proposed to be established in two segments within U.S. airspace extending between the International Falls, MN, VOR/DME and the KORTY, MN, WP replacing the “CFFQV” CNF on the U.S./Canada border; and between the LCROS, MN, WP replacing the “CFXDP” CNF on the U.S./Canada border and the CALDU, MN, WP replacing the “CFZMG” CNF on the U.S./Canada border. The new RNAV route segments would mitigate the proposed V-161 airway segments removal between the International Falls VOR/DME and the Winnipeg, MB, Canada VORTAC and provide route continuity and cross-border connectivity with the T-765 route segments being established by NAV CANADA within Canadian airspace.

The NAVAID radials listed in the VOR Federal Airway V-161 description in the proposed regulatory text of this NPRM are unchanged and stated in degrees True north.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 2004 Jet Routes.

* * * * *

J-89 [Amended]

From Louisville, KY; Boiler, IN; Northbrook, IL; Badger, WI; to Duluth, MN.

* * * * *

Paragraph 2007 Canadian Area Navigation Routes.

* * * * *

Q-834 Duluth, MN (DLH) to ALBNG, MN [New]
Duluth, MN (DLH) | VORTAC | (Lat. 46°48′07.79″ N, long. 092°12′10.33>″ W)
ALBNG, MN | WP | (Lat. 48°59′58.05″ N, long. 095°38′10.41″ W)

* * * * *

Paragraph 6010(a) VOR Federal Airways.

* * * * *

V-161 [Amended]

From Three Rivers, TX; Center Point, TX; Llano, TX; INT Llano 026° and Millsap, TX, 193° radials; Millsap; Bowie, TX; Ardmore, OK; Okmulgee, OK; to Tulsa, OK. From Butler, MO; Napoleon, MO; Lamoni, IA; Des Moines, IA; Mason City, IA; Rochester, MN; Farmington, MN; to Gopher, MN.

* * * * *

Paragraph 6013 Canadian Area Navigation Routes.

* * * * *

T-765 International Falls, MN (INL) to CALDU, MN [New]
International Falls, MN (INL) | VOR/DME | (Lat. 48°33′56.87″ N, long. 093°24′20.44″ W)
KORTY, MN | WP | (Lat. 48°35′20.54″ N, long. 093°27′59.55″ W)
and |  |
LCROS, MN | WP | (Lat. 49°03′44.39″ N, long. 094°44′18.17″ W)
CALDU, MN | WP | (Lat. 49°12′42.53″ N, long. 095°09′11.89″ W)

* * * * *

Issued in Washington, DC, on January 2, 2024.
Frank Lias,
Manager, Rules and Regulations Group.

[FR Doc. 2024-00152 Filed 1-10-24; 8:45 am]

BILLING CODE 4910-13-P